DEPARTMENT OF EDUCATION

List of Borrowers Who Have Defaulted on Their Health Education Assistance Loans

AGENCY: Federal Student Aid, Department of Education.

ACTION: Notice.

SUMMARY: Federal Student Aid (FSA), as required by the Public Health Service Act (the Act), is publishing this list of Health Education Assistance Loan (HEAL) borrowers who have defaulted on their loans as of August 1, 2019. This information is also made available for use by organizations authorized by the Act.

FOR FURTHER INFORMATION CONTACT:

For Defaulted HEAL Borrowers with Account-Related Questions:

A borrower who is in default on a HEAL program loan and who has an account-related question should contact: HHS Program Support Center, Accounting Services, Debt Collection Center, Mailstop 10230B, 7700 Wisconsin Avenue, Suite 8-8110D, Bethesda, MD 20857. Telephone: (301) 492-4664.

For General HEAL Information:

For general HEAL program questions, contact the HEAL program team: Telephone: (844) 509-8957. Email: HEAL@ed.gov.

For Organizations Requesting HEAL Defaulted Borrower Information or Confirmation under Section 709(c)(2) of the Act (42 U.S.C. 292h(c)(2)):

To request information related to a HEAL defaulted borrower or confirmation of the borrower's default status, contact the HEAL program team: Telephone: (844) 509-8957. Email: HEAL@ed.gov.

If you use a telecommunications device for the deaf (TDD) or a text telephone (TTY), call the Federal Relay Service, toll free, at 1-800-877-8339.

SUPPLEMENTARY INFORMATION: From fiscal year 1978 through fiscal year 1998, the HEAL program insured loans made by participating lenders to eligible graduate students in schools of medicine, osteopathy, dentistry, veterinary medicine, optometry, podiatry, public health, pharmacy, and chiropractic, and in programs in health administration and clinical psychology. Authorization for new HEAL program loans was discontinued on September 30, 1998.

Under division H, title V, section 525 of the Consolidated Appropriations Act, 2014 (Pub. L. 113-76), and title VII, part A, subpart I of the Public Health Service Act (42 U.S.C. Chapter 6A), the authority to administer the HEAL program, including servicing, collecting, and enforcing any loans made under the HEAL program that remain outstanding, was transferred from the Secretary of Health and Human Services to the Secretary of Education effective July 1, 2014. The Act and a system of records notice published in the Federal Register on August 14, 2018 (83 FR 40264), permits the publishing of the list of HEAL borrowers who have defaulted on their loans.

Information on the HEAL program is available on the Department of Education's Information for Financial Aid Professionals (IFAP) website at: www.ifap.ed.gov.

List of Defaulters: The following list provides the names and other information of borrowers who have defaulted on their HEAL program loans as of August 1, 2019. Specifically, the list includes the borrower's name, last known city and State of residence, area of practice, and the total amount due on the HEAL debt. The Department publishes this information in order to correctly identify the person in default and to provide relevant information to the authorized recipients of this information, such as State licensing boards and hospitals.

In accordance with section 709(c)(2) of the Act (42 U.S.C. 292h(c)(2)), FSA will provide the information included in this Federal Register notice and updated information on the borrower's default status to relevant Federal agencies and to schools, school associations, professional and specialty associations, State licensing boards, hospitals with which listed borrowers may be associated, and other relevant organizations, upon written request to the email address listed under FOR FURTHER INFORMATION CONTACT. Any written request must be on the letterhead of the organization making the request.

Accessible Format: Individuals with disabilities can obtain this document in an accessible format (e.g., Braille, large print, audiotape, or compact disc) by contacting the HEAL program team: Telephone: (844) 509-8957. Email: HEAL@ed.gov.

Electronic Access to This Document: The official version of this document is the document published in the Federal Register. You may access the official edition of the Federal Register and the Code of Federal Regulations at www.govinfo.gov. At this site you can view this document, as well as all other documents of this Department published in the Federal Register, in text or Portable Document Format (PDF). To use PDF you must have Adobe Acrobat Reader, which is available free at the site.

You may also access documents of the Department published in the Federal Register by using the article search feature at www.federalregister.gov. Specifically, through the advanced search feature at this site, you can limit your search to documents published by the Department.

Program Authority: 20 U.S.C. 1070b et seq. and 1087aa et seq.; 42 U.S.C. 2751 et seq. and 42 U.S.C. 292h(c)(1).

Dated: September 10, 2019.
Mark A. Brown,
Chief Operating Officer, Federal Student Aid.

Health Education Assistance Loan Defaulters by Last Name as of August 1, 2019
Last name | First name | Mi | City | State | Discipline | Date reported | Amount due
Abe | Gregory | N | Tujunga | CA | PHA | 1/21/98 | 73,842
Ackley | Brainard | L | Kitty Hawk | NC | CHM | 1/21/98 | 12,608
Acosta-Delgado | Feliberto | D | Bronx | NY | DEN | 3/1/99 | 95,507
Adams | Stephen |  | League City | TX | CHM | 3/1/99 | 90,698
Adeli | Mojgan | E | Los Angeles | CA | DEN | 3/1/99 | 146,939
Adkins | Margo | M | Austin | TX | MED | 1/21/98 | 917,729
Aiken | Richard | F | Gardena | CA | CHM | 8/21/15 | 89,816
Al-Amin | Ihsaan |  | Ringgold | GA | MED | 11/2/00 | 100,090
Alana | Manuela | L | Pharr | TX | POD | 9/24/14 | 243,463
Alden | Thomas | E | Cambridge | MA | CHM | 11/2/00 | 132,038
Allen | Lawrence | P | Temecula | CA | CHM | 7/31/98 | 355,657
Alston | Linda | D | Philadelphia | PA | OST | 5/21/19 | 191,621
Alter | Dale | N | Tucson | AZ | MED | 2/5/09 | 439,910
Anaya | Enid | L | South Setauket | NY | MED | 5/21/19 | 26,290
Anderson | Angela | J | Torrance | CA | MED | 1/21/98 | 181,286
Anderson | Gwendolyn |  | Lansdowne | PA | POD | 1/21/98 | 281,482
Anyaji | George | I | Chula Vista | CA | MED | 4/25/14 | 121,658
Aquino | Sayira | I | Homestead | FL | POD | 8/15/19 | 81,457
Armstrong | Daniel | J | San Francisco | CA | CHM | 5/17/99 | 162,118
Arnesen | Douglas | W | Atascadero | CA | CHM | 5/17/99 | 56,496
Azcueta | Justina | Q | San Jose | CA | DEN | 5/7/13 | 165,363
Bacon | Pamela | M | Hollister | MO | DEN | 5/17/99 | 254,756
Baez | Ana | V | Somerset | NJ | DEN | 5/14/02 | 148,826
Bahadue | George | P | Hialeah | FL | OST | 3/1/99 | 267,652
Bailey | David | W | San Bernadino | CA | MED | 3/25/19 | 47,374
Baird | Curtis | J | Mount Airy | MD | MED | 5/14/02 | 112,504
Baker | Walter | A | Mill Valley | CA | DEN | 5/11/05 | 470,795
Baker | Gale |  | Olympia Flds | IL | DEN | 5/17/01 | 78,373
Ball JR | Thomas |  | Detroit | MI | POD | 11/12/13 | 111,339
Baranco | Patricia | E | Lake Charles | LA | DEN | 3/1/99 | 884,070
Baratta | George |  | Danville | CA | CHM | 11/2/00 | 30,719
Barber | Mildred | L | Washington | DC | MED | 11/14/07 | 151,743
Barile | Joseph | V | Valatie | NY | CHM | 3/25/19 | 12,504
Barnes | De Elward | F | Los Angeles | CA | CHM | 11/10/04 | 56,818
Barnett | Brian | D | Pearland | TX | CHM | 1/21/98 | 79,638
Barney | Thomas | W | Sugar Grove | IL | CHM | 8/22/17 | 48,040
Barrows | Joni |  | Newmarket | NH | DEN | 5/19/09 | 690,428
Bayles | Jay | C | Westlake Village | CA | CHM | 8/11/05 | 122,883
Bear | Todd | L | El Paso | TX | CHM | 9/24/14 | 78,406
Beckford | Audrey | L | East Orange | NJ | OST | 2/15/02 | 73,832
Bennett | Kathy |  | Caldwell | ID | CHM | 8/12/16 | 83,084
Bentley JR | James | W | Van Nuys | CA | DEN | 8/12/16 | 25,888
Bergstrom | Eric | R | Anaheim Hills | CA | CHM | 5/7/13 | 33,510
Bertin | Michael | W | West Bloomfield | MI | DEN | 1/21/98 | 9,624
Bertsch | Dar | A | Santa Cruz | CA | CHM | 4/25/14 | 42,964
Bettis | Gail | M | Bellrose | NY | DEN | 1/21/98 | 101,502
Biosah-Coleman | Ada | N | Houston | TX | PUB | 9/24/14 | 51,189
Bittenbender | Robert | G | Clarks Summit | PA | CHM | 11/7/01 | 44,109
Bland JR | Henry | N | Jacksonville | FL | DEN | 5/14/02 | 246,858
Blase | Richard | M | Worcester | MA | DEN | 1/21/98 | 483,327
Bolton | Paul | K | Kansas City | MO | CHM | 11/2/00 | 133,930
Booher | Janette | L | South San Francisco | CA | CHM | 2/1/01 | 65,325
Boshes | Perri | D | Deerfield Beach | FL | CHM | 1/21/98 | 78,122
Bowman | Jeffrey | S | Salt Lake City | UT | CHM | 1/21/98 | 23,099
Brandt | Susan | J | Winston Salem | NC | MED | 7/6/12 | 100,331
Brantley | Carl | E | Houston | TX | DEN | 9/24/14 | 44,823
Breazeale | Michael | E | Marietta | GA | CHM | 1/21/98 | 328,844
Brodie | Douglas | K | San Antonio | TX | DEN | 1/21/98 | 394,224
Brodsky | Barbara | L | San Francisco | CA | CHM | 1/21/98 | 22,179
Bronk | Brian | R | Santa Monica | CA | CHM | 1/21/98 | 74,857
Broussard | Charlotte | R | Carrollton | TX | CHM | 11/2/00 | 19,665
Broussard | Linda | C | Los Angeles | CA | CHM | 2/10/11 | 3,911
Brown | Darla | J | Highlands | TX | CHM | 1/21/98 | 470,707
Brown | Jeffrey | T | Gainesville | GA | CHM | 11/7/01 | 32,677
Brown-Collins | Jannas | E | Columbia | SC | DEN | 5/31/18 | 584,500
Bruyning | Edwin | F | Miami | FL | DEN | 1/21/98 | 350,783
Buchta | Joseph | F | Bradenton | FL | DEN | 7/26/18 | 35,648
Buchwald-Heilig | Bonnie | I | Tucson | AZ | CHM | 1/21/98 | 42,539
Buford | John | I | Philadelphia | PA | OST | 5/17/01 | 64,304
Bui | Khai | T | Springfield | MA | DEN | 8/16/06 | 89,759
Bulen | Jerry | L | Brandon | FL | OST | 2/28/05 | 186,032
Bunce | Christine | T | Sonoma | CA | CPY | 2/1/01 | 196,460
Burke-Lundy | Elaine | I | Davie | FL | MED | 5/16/11 | 42,208
Caballero | Jorge | R | Los Angeles | CA | CHM | 1/21/98 | 284,014
Cabrera | Cecilia | I | Pembroke Pines | FL | OPT | 2/5/09 | 20,674
Caldwell | William | G | Concord | MA | DEN | 5/14/02 | 118,332
Calix | Raul | O | Lennox | CA | CHM | 5/16/11 | 11,608
Campanale | Paul | R | Jacksonville | FL | CHM | 1/21/98 | 94,259
Canillas | Gregorio | L | Long Beach | CA | CPY | 5/16/11 | 77,215
Caporaso | Nicholas | G | West Liberty | OH | CHM | 2/1/01 | 34,032
Caputo | Francesco | J | Plainview | NY | CHM | 7/6/12 | 265,767
Cardenas-Cuyuche | Ines | B | Los Angeles | CA | CHM | 11/18/11 | 20,513
Carlos | Lester | B | San Leandro | CA | CHM | 8/5/04 | 72,723
Carney | Timothy | M | East Patchogue | NY | CHM | 11/26/12 | 36,301
Carpenter | Richard | P | Saginaw | MI | CHM | 1/21/98 | 42,491
Carrie | Thomas | T | Mount Vernon | NY | MED | 3/1/99 | 364,504
Carthen | Michael |  | Brooklyn | NY | POD | 1/21/98 | 388,545
Castaline | Perren | V | Canyon Country | CA | CHM | 8/11/05 | 142,425
Castellanos | Loretta | M | Key Biscayne | FL | DEN | 2/3/14 | 282,038
Castro | Henry | G | Corpus Christi | TX | CHM | 5/20/04 | 57,762
Caulkins | Robert | M | Shrewsbury | MA | MED | 8/5/04 | 502,276
Cha | Chris | S | Garden Grove | CA | DEN | 11/12/99 | 347,920
Chalgujian | Hilda | A | Palm Desert | CA | CPY | 5/16/11 | 148,757
Chen | Syng-Fu | F | Pls Vrds Pnsl | CA | MED | 5/20/04 | 56,113
Cheney | Julian | L | Reseda | CA | CHM | 1/21/98 | 9,380
Choe | Kevin | K | Lakewood | CA | CHM | 1/21/98 | 5,049
Choi | Seong | Y | Diamond Bar | CA | DEN | 3/1/99 | 164,463
Christian | Roy | P | Saratoga | CA | DEN | 7/6/12 | 68,436
Christiansen | John | C | Taylorsville | UT | CHM | 5/19/09 | 82,655
Clark | Garth | A | Humble | TX | MED | 8/10/01 | 157,189
Cleere | Carrol | E | Tulsa | OK | CHM | 1/21/98 | 232,884
Clifton | Rhea | S | Dallas | TX | CHM | 8/5/04 | 8,484
Cline | Sherri | L | Sylmar | CA | OST | 1/21/98 | 10,943
Clouse | William | J | San Antonio | TX | POD | 3/1/99 | 227,694
Coate | Linda |  | Reno | NV | CHM | 11/9/10 | 187,415
Cobrin | Bettina | B | Marina Del Rey | CA | CPY | 1/21/98 | 274,610
Coleman JR | Harold | J | Tacoma | WA | DEN | 5/16/11 | 286,254
Collier | George | R | Ponderay | ID | DEN | 1/21/98 | 306,492
Collier | William | F | Sandpoint | ID | CHM | 1/21/98 | 245,100
Collins JR | Gail | W | Fullerton | CA | OPT | 3/1/99 | 33,391
Connaughton | Edward | M | Hermosa Beach | CA | CHM | 8/12/16 | 39,166
Connor | Kenneth | J | Newport Beach | CA | CHM | 11/7/01 | 84,048
Cook | Ian | K | Christiansted | VI | POD | 2/8/17 | 189,744
Cook | Karen |  | Redwood City | CA | CHM | 7/6/12 | 502,121
Cooke | Courtney | W | Van Nuys | CA | CHM | 5/18/10 | 48,024
Coombs | Timothy | R | Anaheim | CA | CHM | 5/15/00 | 120,019
Cooney | Carey | E | Eugene | OR | DEN | 1/21/98 | 42,998
Coonts | Terry | A | Eldorado Springs | MO | CHM | 2/17/00 | 18,825
Cooper | April | D | Hazel Crest | IL | MED | 1/21/98 | 494,455
Cooper | Carol | A | Keizer | OR | CHM | 3/25/19 | 216,369
Corcoran | Jamie | M | Bronx | NY | DEN | 4/24/98 | 552,537
Cothran | Lonnie | A | Shady Point | OK | CHM | 11/12/99 | 246,024
Cox | Michael | A | Oakland | CA | CHM | 11/15/05 | 27,086
Cummins | David | F | St Michael Barbados | FC | DEN | 1/21/98 | 159,887
Curtin | Michael | M | Fairfax | CA | CHM | 1/21/98 | 36,947
Cutts | David | P | Temecula | CA | DEN | 1/21/98 | 187,928
Danchisin | Drew | M | Oakland | CA | CHM | 5/16/11 | 123,525
Daniels | Peter | J | San Jose | CA | CHM | 2/20/07 | 99,033
Danielsdixon | Darlene | T | Bloomfield Hills | MI | DEN | 9/24/14 | 189,457
Darrow | Victoria | L | Boca Raton | FL | CHM | 11/26/12 | 140,871
Davalos | Steven | M | Carmel Valley | CA | CHM | 8/1/00 | 52,966
Davidson | Blake | L | Richardson | TX | CHM | 8/5/04 | 49,728
Davis | Mary | L | Saginaw | MI | OPT | 3/1/99 | 79,393
Davitiashvili | Nodari |  | Rego Park | NY | DEN | 11/12/13 | 153,136
De Jesus-Miranda | Luis | A | Mamati | PR | OPT | 5/14/02 | 103,638
Deck | Robert | E | Crowley | TX | CHM | 2/14/13 | 59,378
Deleonardis | Michael | S | Houston | TX | MED | 8/10/01 | 119,066
Demaria | Lynn | A | Albany | NY | MED | 2/2/18 | 84,554
Dennis | Gwenda | B | Aliso Viejo | CA | MED | 5/14/16 | 134,837
Densmore | Robert | D | Tampa | FL | CHM | 8/17/07 | 50,632
Derbonne | John | R | Lake Jackson | TX | CHM | 9/24/14 | 46,835
Desai | Nemish | J | West Bloomfield | MI | DEN | 5/21/19 | 112,446
Dewitt | Eldon | L | Fort Pierce | FL | CHM | 2/5/09 | 141,467
Dhaliwal | Emaline | K | Riverside | CA | CHM | 1/21/98 | 13,991
Diaz | James | A | Redwood Valley | CA | CHM | 8/22/17 | 16,047
Diesen | James | D | Jacksonville | FL | CHM | 1/21/98 | 445,004
Difiore JR | William | E | Fountain Valley | CA | CHM | 1/21/98 | 74,760
Dinh | Michael | K | Mcallen | TX | CHM | 9/24/14 | 11,792
Ditroia | Frederick |  | Warrington | PA | DEN | 1/21/98 | 64,956
Divanbeigi | Farah | Z | Las Vegas | NV | DEN | 3/25/19 | 185,083
Dominic | Anthony | J | Manasquan | NJ | MED | 2/15/02 | 54,624
Dominicis | Beth | A | Lake Arrowhead | CA | CHM | 2/1/01 | 27,555
Doom | Randolph | H | Murrells Inlet | SC | CHM | 8/17/12 | 162,309
Dorian | Saro | S | Glendale | CA | CHM | 11/7/01 | 35,465
Dructor | James | D | Pittsburgh | PA | MED | 8/10/01 | 71,228
Dudley | Raynold | R | Houston | TX | PHA | 1/21/98 | 121,814
Dungan | Kim | V | Fort Lauderdale | FL | CHM | 11/14/07 | 130,323
Dupuis | Kenneth | J | Orono | ME | CHM | 5/14/02 | 197,427
Durham | Ricky | L | Houston | TX | CHM | 1/21/98 | 244,711
Dwight | Benton | J | Albuquerque | NM | PHA | 7/26/18 | 17,175
Dykeman | Peter | J | Hawthorne | CA | CHM | 1/21/98 | 139,507
Elbayar | Nader | K | Port Washington | NY | POD | 1/21/98 | 157,974
Elder | Terry | M | Glendale Heights | IL | CHM | 8/1/00 | 279,114
Eli | Desiree | D | Soquel | CA | CHM | 1/21/98 | 78,390
Ellis | Mark | S | Miami | FL | POD | 2/17/00 | 141,175
Emerson | Edwin | A | Selden | NY | CHM | 1/21/98 | 246,727
Engel | Rob | L | Garden Grove | CA | CHM | 2/17/00 | 30,893
Ensminger | Aletha | M | Carmichael | CA | DEN | 11/9/10 | 99,797
Epstein | Judy | J | Carlsbad | CA | CPY | 2/17/00 | 162,694
Eslao | Caesar | G | Carson | CA | DEN | 1/21/98 | 159,543
Esmailbeigui | Babak |  | Pacific Palisades | CA | DEN | 9/24/14 | 9,905
Etienne | Fernande |  | West Palm Beach | FL | POD | 5/11/06 | 183,124
Etumnu | Patrick | C | Houston | TX | CHM | 9/24/14 | 30,279
Evans | William | L | Spring | TX | CHM | 9/24/14 | 103,092
Fabricant | Michael | J | Fort Lauderdale | FL | CHM | 1/21/98 | 261,308
Fair | David | F | Knoxville | TN | CHM | 3/1/99 | 148,049
Falkinburg | Rory | D | Point Pleasant Boro | NJ | CHM | 7/26/18 | 92,412
Fallman | James | M | Victorville | CA | CHM | 5/15/00 | 50,411
Falth-Vanvollenhoven | Annika | M | San Francisco | CA | MED | 3/1/99 | 144,588
Fanizzi | Thomas |  | Brightwaters | NY | POD | 4/24/98 | 528,265
Farris | Farral | W | Hurst | TX | CHM | 5/15/00 | 67,978
Fayazfar | Mitra |  | Oak Park | CA | CHM | 11/7/01 | 29,754
Feinman | Brian | M | Tampa | FL | POD | 2/20/07 | 805,719
Fenton | Mark | A | Van Nuys | CA | CHM | 5/11/06 | 99,916
Fiore | James | P | Santa Ana | CA | CHM | 8/10/01 | 70,607
Fletcher | Leonard | G | Corona | CA | MED | 8/21/15 | 74,857
Flores | Otto | O | Antario | CA | CHM | 1/21/98 | 182,780
Fluck | Dennis | W | New Tripoli | PA | OST | 10/30/03 | 310,761
Flunker | Edward | J | Houston | TX | CHM | 8/12/16 | 13,543
Ford | Leslie | E | Keller | TX | CHM | 8/15/19 | 15,332
Ford | Thomas | M | Yorba Linda | CA | CHM | 2/1/01 | 15,690
Formaker | James | W | West Hollywood | CA | DEN | 1/21/98 | 112,482
Fox | Carl | A | Dana Point | CA | CHM | 5/11/05 | 114,152
Franco | Michael | G | Glendale | CA | MED | 3/3/15 | 219,729
Francus | Irwin | N | East Northport | NY | CHM | 4/24/98 | 472,576
Franks | Michael | A | Wharton | TX | CHM | 9/24/14 | 28,879
Freeze | Kenneth | J | Amarillo | TX | CHM | 8/15/19 | 161,410
Fridrick | Tim | P | Las Vegas | NV | CHM | 1/21/98 | 66,986
Friedman | Marc | H | Huntington Beach | CA | POD | 8/12/16 | 56,178
Fulton | William | C | Oakland | CA | CPY | 11/7/01 | 81,400
Funcia | Ana | T | Miami | FL | DEN | 2/1/01 | 209,005
Gaber | Alan | M | Levittown | PA | DEN | 5/14/02 | 61,086
Gain | John | J | Wilmington | DE | MED | 5/2/03 | 366,530
Galliher | Jack | T | Wimberley | TX | OPT | 11/7/01 | 3,600
Gallucci | Don | A | Dedham | MA | DEN | 3/1/99 | 155,980
Garner | Jeffrey | L | Cedar Rapids | IA | OPT | 3/25/19 | 70,181
Gasso | Joaquin | A | Hollywood | FL | CHM | 1/21/98 | 258,063
Gaydos | Richard | F | Fontana | CA | CHM | 11/7/01 | 69,209
Gdula | William | J | Brookline | MA | MED | 5/16/11 | 19,923
Genna | Stephen | A | Bayville | NY | DEN | 7/26/18 | 42,096
Ghalbi | Abdollnasser |  | Santa Ana | CA | CHM | 5/14/02 | 40,367
Gifford | Craig | P | Keller | TX | DEN | 2/17/00 | 103,506
Gilyot | Glenn | D | New Orleans | LA | DEN | 2/15/02 | 311,502
Giorgio | Stephen | R | Middle Island | NY | CHM | 7/26/18 | 27,116
Gipson | Bruce | C | Easton | PA | CHM | 5/14/16 | 26,373
Giventer | Alex |  | Los Angeles | CA | CHM | 5/16/11 | 71,105
Glick | Stanley | B | Pasadena | CA | OPT | 1/21/98 | 7,202
Gloshinski | Laura | E | Portland | PA | CHM | 1/21/98 | 144,789
Goins | Rondy | D | Detroit | MI | POD | 3/25/19 | 329,595
Goldbeck | Donald | E | Woodland Hills | CA | CHM | 8/12/16 | 104,156
Gomes | Steven | P | Santa Rosa | CA | CHM | 4/24/98 | 53,246
Gomez | Meneleo | P | Glendale | CA | DEN | 5/15/00 | 292,555
Gonzalez | Maria | E | East Rockaway | NY | DEN | 5/15/00 | 74,668
Goodman | William | D | Thorp | WI | DEN | 1/21/98 | 36,153
Goodwin | Randall | J | Satanta | KS | CHM | 7/6/12 | 108,835
Gosa-Kersee | Angela | J | Chicago | IL | DEN | 3/1/99 | 296,849
Gottschling | Carl | F | Cleveland | OH | MED | 11/7/01 | 160,434
Grant | Terry | E | Hempstead | NY | DEN | 2/1/01 | 81,305
Gray | David | M | San Francisco | CA | POD | 3/2/04 | 71,551
Green JR | Edwin | A | Brownwood | TX | MED | 12/11/18 | 61,531
Greeno | Vincent | A | Bolton | MA | CHM | 2/28/05 | 62,513
Greeson-Cargioli | Leisa | A | Noblesville | IN | CHM | 7/26/18 | 38,967
Gregory | Todd | A | Pismo Beach | CA | CHM | 1/21/98 | 56,428
Gregory | Thomas | M | Brentwood | NY | CHM | 8/22/17 | 336,251
Gregson | Randall |  | Kailua | HI | CHM | 8/22/17 | 101,957
Grenier | Paul | S | Viroqua | WI | CHM | 8/9/10 | 49,940
Grob-Mick | Renee | J | Dover | DE | MED | 5/31/18 | 41,552
Grossman | Brian | W | Tulra | CA | CPY | 8/12/16 | 93,008
Gulas | Carl | M | Los Gatos | CA | CHM | 11/18/11 | 42,425
Gutierrez | Celso |  | Arlington | TX | CHM | 8/12/16 | 26,307
Guyer | Larry | G | Santa Rosa | CA | CHM | 11/7/01 | 43,563
Hahn | Peter | S | Placentia | CA | CHM | 1/21/98 | 43,157
Haines | Steven | M | Jackson | NJ | CHM | 3/1/99 | 60,413
Hall | Pamela | A | Miami Gardens | FL | CPY | 8/17/07 | 206,875
Hamilton | Cynthia | R | Chino Hills | CA | MED | 5/16/11 | 41,872
Hampton | Jubal |  | Long Beach | CA | POD | 11/12/99 | 112,381
Hankins | Dean | G | Anaheim | CA | CHM | 8/12/16 | 96,403
Hankins | Douglas | A | Anaheim | CA | CHM | 8/22/17 | 60,749
Hansen | Kristen | T | Washington | UT | CHM | 2/6/03 | 115,705
Harp | Richard | B | Hacienda Heights | CA | CHM | 8/10/11 | 25,179
Harris | Conrad | W | Washington | DC | DEN | 1/21/98 | 138,699
Harris | Sabrina | D | San Antonio | TX | MED | 12/11/18 | 167,002
Harrison | Rodney | B | Claremont | CA | DEN | 5/19/09 | 464,400
Hasley | Steven | J | Melbourne | FL | CHM | 2/28/05 | 77,821
Hassid | Sharona | H | Kings Point | NY | DEN | 7/26/18 | 27,226
Hatfield | Brian | L | Brentwood | CA | CHM | 1/21/98 | 62,572
Haygood | Regina | J | Brooklyn | NY | POD | 4/24/98 | 196,417
Hazelwood III | Harry | H | Daytona Beach | NJ | PUB | 3/1/99 | 310,656
Heckler | Rodney | R | Wheaton | IL | CHM | 11/15/05 | 25,094
Hempsey | William | C | North Hollywood | CA | CHM | 1/21/98 | 117,073
Henderson | Charles | A | Baltimore | MD | POD | 8/22/17 | 46,332
Hennell-Larue | Renata | A | Mapleton | OR | CHM | 9/24/14 | 43,102
Hernandez | Agapito |  | Mcallen | TX | CHM | 11/7/01 | 199,126
Hernandez | Orestes | M | Los Angeles | CA | CHM | 1/21/98 | 93,051
Herrera | Diego | F | Long Island City | NY | DEN | 8/5/99 | 330,359
Herzlich | Douglas | B | New York | NY | POD | 5/21/19 | 181,325
Hibbert | Harold | H | Mountain View | CA | MED | 11/2/00 | 29,938
Ho | Wook |  | Los Angeles | CA | DEN | 3/1/99 | 59,678
Hoang | Dat | T | Anaheim | CA | MED | 8/12/16 | 73,868
Hobowsky | Martin | R | South Charleston | OH | OST | 11/9/10 | 258,148
Hoehn | James | D | Thousand Oaks | CA | DEN | 1/21/98 | 81,303
Hoffman | Stuart |  | Venice | CA | CHM | 8/12/16 | 23,124
Holt | Kenneth | G | Riverside | CA | CHM | 1/21/98 | 125,251
Holzer | Richard | M | Glendale | AZ | CHM | 8/17/07 | 166,785
Hopkins | Keith | T | Kissimmee | FL | CHM | 1/21/98 | 13,633
Horsley | Ronald | G | Yulee | FL | CHM | 1/21/98 | 90,649
Hough JR | Reginio | T | Lancaster | CA | CHM | 8/1/00 | 37,065
Howell | Ralph | G | Stateline | NV | CHM | 11/7/01 | 248,531
Hungerford | Richard | D | Portola | CA | CHM | 1/21/98 | 91,560
Hunt | Richard | D | Pasadena | CA | CHM | 2/15/02 | 151,140
Hunter | Donald | E | Fairborn | OH | CHM | 5/19/09 | 77,275
Hush | George | G | Rose City | MI | CHM | 1/21/98 | 108,603
Ichiuji | Arnold | T | Salinas | CA | DEN | 8/10/01 | 111,953
Iliou | Claude | B | Punta Gorda | FL | MED | 8/16/06 | 25,721
Ionova-Zalivchy | Irina | I | Brooklyn | NY | DEN | 7/26/18 | 68,333
Iqal | Robert | S | Claremont | CA | PHA | 1/21/98 | 14,427
Israelsen | John | A | Logan | UT | DEN | 8/1/00 | 300,060
Ito | Stephen | M | Menifee | CA | CHM | 4/24/98 | 154,300
Jackson | Harold | O | Atlanta | GA | DEN | 5/16/11 | 34,359
Jackson | Francesca | A | San Francisco | CA | CHM | 4/24/98 | 94,226
Jacob-France | Elizabeth |  | St Petersburg | FL | CHM | 2/10/11 | 70,942
Jaimes | Laura |  | Pico Rivera | CA | MED | 7/26/18 | 9,403
Jansson | Susanne | E | Westhampton Beach | NY | GHA | 1/21/98 | 123,876
Jeffcoat | Lori | M | Vallejo | CA | CHM | 10/30/03 | 37,984
Jennifer | Jai |  | Oakland | CA | MED | 7/6/12 | 61,187
Jernigan | Sherry | S | Land O Lakes | FL | OST | 3/25/19 | 162,612
Jewett | Charles | D | Portsmouth | OH | CHM | 1/21/98 | 108,190
Joergens JR | Donald | W | Staten Island | NY | CHM | 1/21/98 | 59,104
Johnson | John | B | Pasadena | TX | CHM | 8/12/16 | 17,145
Johnson | Steven | R | Hillsboro | TN | CHM | 8/1/00 | 158,655
Johnson | Anthony |  | Detroit | MI | MED | 1/21/98 | 17,154
Johnson | Gary | M | Burbank | CA | CHM | 4/24/98 | 98,936
Johnson | Eric | D | Folsom | CA | CHM | 1/21/98 | 389,305
Kahan | Robert | M | Mission Viejo | CA | CHM | 1/21/98 | 78,514
Kamel | Luca |  | Canyon Country | CA | MED | 8/12/16 | 239,402
Kantro | Scott | R | New York | NY | POD | 8/16/06 | 428,741
Katz | Steven | M | Sherman Oaks | CA | CHM | 8/10/01 | 205,395
Kaufmann | Todd | S | Corte Madera | CA | CHM | 8/5/99 | 145,002
Kea | Rattana | D | Highland | CA | DEN | 11/7/01 | 212,830
Keeler-Jones | Dawn | M | Port Saint Lucie | FL | CHM | 5/14/02 | 84,870
Keenan | John | M | Watertown | NY | CHM | 2/5/09 | 51,845
Kelly-Soluri | Laura |  | Farmingdale | NY | POD | 5/17/99 | 262,418
Kempis | Richard | A | San Francisco | CA | DEN | 2/17/00 | 115,795
Kessinger | Charles | W | Key West | FL | CHM | 8/21/15 | 45,850
Kessler | Bill | R | Fountain Valley | CA | CHM | 8/10/11 | 45,079
Khalsa | Gururakha | S | Springfield | VA | CHM | 7/31/98 | 146,782
Khalsa | Har Hari | S | Beverly Hills | CA | CHM | 8/10/11 | 67,509
Khan | Tariq | A | San Leandro | CA | DEN | 7/6/12 | 62,668
Kim | Won Kak |  | Torrance | CA | CHM | 8/12/16 | 105,358
King | Susan | M | Apache Junction | AZ | CHM | 9/24/14 | 189,389
King | James | H | Washington | DC | DEN | 1/21/98 | 48,768
Kirkpatrick | Ira | P | Hurst | TX | CHM | 7/26/18 | 209,882
Kiss | Kathleen | M | Blue Point | NY | CHM | 1/21/98 | 135,483
Klapper | Gerald | P | Hollywood | FL | POD | 2/11/08 | 55,122
Klejnot | Timothy | A | Marietta | GA | CHM | 1/21/98 | 231,896
Knight | Patricia | A | Bayport | NY | CPY | 1/21/98 | 96,923
Ko | Joo | H | Marina | CA | CHM | 4/25/14 | 20,110
Koukeh-Sackett | F | M | San Bernardino | CA | CHM | 1/21/98 | 155,453
Kowalski | Brian | A | Irvine | CA | CHM | 8/21/15 | 28,971
Kralj | Mladen | M | Chicago | IL | DEN | 4/24/98 | 606,519
Krichevsky | Rita | A | Newtown | PA | MED | 2/2/18 | 145,600
Krystosik | James | D | Streetsboro | OH | CHM | 11/9/06 | 255,998
Kunen | Frederick | J | Miami | FL | MED | 3/1/99 | 199,398
Kushner | William Iii |  | Danville | CA | DEN | 5/9/07 | 30,298
Kyprie | Warren |  | Boca Raton | FL | CPY | 2/14/12 | 80,939
Lafleur | Allen | R | Hull | MA | CHM | 3/1/99 | 463,228
Lamb | Robert | D | Sebastopol | CA | CHM | 1/21/98 | 198,357
Lampley | Joseph | C | Hamlin | TX | OST | 3/25/19 | 167,118
Lampman | Chuck | D | Sylmar | CA | CHM | 1/21/98 | 270,731
Lancaster | Barry | D | Marietta | GA | CHM | 1/21/98 | 139,565
Landou | Lissa | S | Belleville | NJ | CHM | 5/14/02 | 214,314
Lane | Craig | R | Baltimore | MD | POD | 3/25/19 | 323,518
Langham | Mary | L | Talkeetna | AK | OST | 5/19/09 | 568,988
Lauffer | Mark | A | Mineral Point | PA | CHM | 5/16/11 | 89,648
Lawton | Michael | D | Yorba Linda | CA | MED | 11/12/99 | 244,753
Lee | Steve | Y | Livingston | NJ | DEN | 8/10/01 | 95,601
Lent | Rosella | M | Nahant | MA | CHM | 8/11/05 | 237,062
Leonor | Lillian |  | Riverside | CA | DEN | 8/10/11 | 49,033
Leshinger | Craig | L | Bayport | NY | DEN | 3/25/19 | 10,883
Lester | Robert | C | Waxahachie | TX | CHM | 2/17/00 | 64,183
Leung | Leo | S | Woodside | NY | CHM | 1/21/98 | 231,987
Levin | Nancy | E | Palm Beach Gardens | FL | CHM | 1/21/98 | 240,238
Lewis | Richard | C | Colorado Springs | CO | CHM | 8/17/12 | 26,638
Light | David | N | Winter Garden | FL | DEN | 2/28/05 | 135,076
Lim | Jong | S | Elmhurst | NY | DEN | 11/12/13 | 156,982
Lippay | Ronald | W | Fresno | CA | CHM | 10/30/03 | 76,429
Lipschutz | Robert | B | Philadelphia | PA | POD | 2/1/06 | 147,398
Little | Carlton | E | Chicago | IL | MED | 11/12/13 | 315,779
Littleton | Charles | R | Edmond | OK | DEN | 7/31/98 | 1,118
Lodwig | Michael | J | Castro Valley | CA | CHM | 1/21/98 | 55,497
Lopez | Luis |  | Cathedral City | CA | CHM | 5/7/13 | 223,517
Lottie | Mark | E | Covina | CA | CHM | 8/21/15 | 116,714
Lowry-Brooks | Paulette | M | Summerville | SC | CHM | 1/21/98 | 225,012
Lucero | Lucky | E | San Bernardino | CA | DEN | 4/25/14 | 77,872
Lunceford | Glenn | W | Norco | CA | CHM | 1/21/98 | 59,909
Luta | Patricia | L | Santa Rosa | CA | CHM | 2/17/00 | 97,867
Ly | Hoang | X | Garden Grove | CA | OPT | 8/12/16 | 31,638
Maghloubi | Seyed | M | Pacific Palisades | CA | CHM | 8/12/16 | 43,125
Major | David | C | Whittier | CA | CHM | 8/12/16 | 10,974
Mannino | Guy | C | North Pole | AK | CHM | 3/1/99 | 354,620
Manriquez JR | Antonio | M | Coachella | CA | CHM | 5/11/05 | 101,857
Manvel | Barry | J | Napa | CA | CHM | 7/31/98 | 39,963
Marcel | Perry | L | Alvarado | TX | DEN | 11/12/13 | 180,710
Marcus | Alex |  | Orlando | FL | CHM | 2/10/11 | 122,633
Marquez | Evelyn | W | Reseda | CA | CPY | 2/28/05 | 142,739
Martin JR | John | W | Zephyrhills | FL | CHM | 1/21/98 | 246,635
Marts | Richard | A | Los Angeles | CA | CHM | 11/12/99 | 99,870
Mattson | James | A | Berkeley | CA | OST | 11/7/01 | 180,933
Maxfield-Brown | Bobbi | L | Evansville | IN | CHM | 1/21/98 | 707,779
Mays-Good | Kathryn | M | Reseda | CA | CHM | 1/21/98 | 354,954
Mazhar | Mark |  | Los Angeles | CA | CHM | 8/11/05 | 127,184
McAdams | Glen | R | Spring | TX | CHM | 3/1/99 | 259,357
McAlees | Raymond | M | North Palm Beach | FL | CHM | 11/12/99 | 247,778
McCallum III | Ronald | D | Sunnyvale | CA | CHM | 5/20/04 | 23,273
McClure | Brian | C | Daytona Beach | FL | DEN | 1/21/98 | 15,458
McCombs | Martin |  | Long Beach | CA | CPY | 11/12/99 | 281,622
McConner | Sadie | B | Daytona Beach | FL | POD | 1/21/98 | 71,382
McElhinney | Thomas | E | Saint Augustine | FL | CHM | 1/21/98 | 1,230,083
McGee | Billie | J | Simi Valley | CA | CHM | 1/21/98 | 135,617
McMorris | Bruce |  | Long Beach | CA | CHM | 11/12/99 | 174,556
McRoberts | Lynne | S | Ontario Canada | FC | CHM | 1/21/98 | 104,038
Mcatamney | John | P | Garden City | NY | CHM | 11/9/10 | 26,948
Mcghee | Stephanie | Y | La Marque | TX | CHM | 5/19/09 | 41,270
Mckay | Kevin | J | Dallas | TX | CHM | 11/10/04 | 68,619
Mcmahan | Gregory | E | Anaheim | CA | DEN | 11/18/11 | 32,099
Meade | Madeline | M | Cleveland | OH | DEN | 1/21/98 | 73,656
Meggs | Carl | M | Belize | FC | DEN | 8/15/03 | 110,933
Melendez | Angelina |  | Bronx | NY | POD | 5/19/09 | 297,014
Melker | Neil | L | Princeton | NJ | DEN | 5/19/09 | 234,833
Menezes | Michael | H | Tampa | FL | DEN | 2/10/11 | 211,806
Mihalakis | Georgia |  | Bronx | NY | OST | 1/21/98 | 487,201
Milanes-Scott | Barbara | J | Northridge | CA | MED | 1/21/98 | 215,580
Milgram | Roman |  | Brooklyn | NY | DEN | 1/19/17 | 44,626
Miller | Bradley | G | Beverly Hills | CA | MED | 1/21/98 | 99,645
Miller | Brad | T | Costa Mesa | CA | CHM | 1/21/98 | 22,616
Miller | Gaylon | D | Bixby | OK | CHM | 2/14/12 | 97,099
Millon | Jeffrey | M | Lithonia | GA | MED | 1/21/98 | 195,320
Mills | Stephen | M | Powell | OH | CHM | 3/25/19 | 5,973
Mitchell | Warren | A | Yucaipa | CA | DEN | 8/1/00 | 460,833
Mizell | William | L | Los Lunas | NM | OST | 8/12/16 | 273,089
Moarefi | Mahmdud | R | Los Angeles | CA | CHM | 2/17/00 | 73,223
Mohammadkhani | Alireza | D | Chatsworth | CA | CHM | 8/11/05 | 57,224
Moler | Amy | M | Westerville | OH | MED | 8/22/17 | 19,704
Moore | Thomas | A | Gray | ME | CHM | 3/1/99 | 200,218
Moore | Scott | P | Citrus Heights | CA | CHM | 2/20/07 | 25,531
Morita | Phuong | T | Irvine | CA | CHM | 3/1/99 | 118,763
Moroney | William | P | Nashville | TN | CHM | 4/24/98 | 77,593
Moroney | Raymond | A | Venice | CA | CHM | 8/12/16 | 102,505
Morrone | Mark | J | Los Angeles | CA | DEN | 7/31/98 | 219,064
Moulds JR | Dan | R | Chattanooga | TN | DEN | 2/1/01 | 216,474
Mouton | Marsha | E | Los Angeles | CA | MED | 1/21/98 | 105,558
Muecke | Lee | N | Houston | TX | MED | 8/12/16 | 7,627
Muenker | Mark | E | Hillsboro | OR | CHM | 7/31/98 | 284,198
Mullinax | Jeffrey | S | Windsor | CA | CHM | 5/11/05 | 27,642
Munoz | Luis | R | Chicago | IL | MED | 11/12/13 | 598,884
Murphy | Marc | A | Rancho Santa Margar | CA | CHM | 1/21/98 | 155,471
Murphy | John | P | Black Earth | WI | CHM | 7/6/12 | 43,040
Murphy | Richard | N | North Bergen | NJ | CHM | 1/21/98 | 1,404,765
Myers | Karen | A | Redondo Beach | CA | MED | 10/30/03 | 230,897
Myers | Michael | D | San Rafael | CA | CPY | 7/6/12 | 51,615
Nagel | Douglas |  | Herndon | VA | CHM | 8/12/16 | 46,659
Nappi | Neil | A | West Palm Beach | FL | CHM | 3/1/99 | 218,654
Nason | Christian | W | Holly Springs | NC | CHM | 5/18/10 | 95,984
Nasseri | Amir Abbas |  | Santa Ana | CA | MED | 5/31/18 | 23,419
Navai | Mehdi | N | Alhambra | CA | CHM | 1/21/98 | 413,148
New | Richard | A | Conway | SC | CHM | 2/14/13 | 87,775
Newsome | Dorita |  | Livingston | NJ | DEN | 5/19/09 | 68,774
Newsome | Raymond | E | Desoto | TX | CHM | 11/2/02 | 235,838
Nguyen | Michael | M | Milpitas | CA | MED | 11/9/06 | 54,330
Nguyen | Tuan | H | Fountain Valley | CA | OST | 11/12/13 | 158,357
Nguyen | Ho | H | La Puente | CA | CHM | 11/18/11 | 142,939
Nguyen | Anh |  | Sacramento | CA | DEN | 11/18/11 | 33,093
Nguyen | Charlene | D | La Habra | CA | CHM | 5/7/13 | 33,760
Nichols | Victoria | G | Encinitas | CA | CPY | 8/12/16 | 12,002
Nieman | Edward |  | Riverside | CA | CHM | 2/1/01 | 114,373
Ninomiya | Jesse | K | Honolulu | HI | DEN | 5/17/01 | 163,169
Nipper-Collins | Kristie | L | Lutz | FL | OST | 2/10/11 | 42,622
Nkuku | Christopher | N | Berkeley | IL | MED | 5/17/01 | 73,380
Nnokam | Kennedy | I | Jasper | TX | PUB | 9/24/14 | 62,482
Nolasco | Elizabeth | R | Brooklyn | NY | MED | 11/12/13 | 18,223
Norville | Michael | T | Costa Mesa | CA | CHM | 1/21/98 | 205,849
Ocon | Luis | E | Salinas | CA | CHM | 10/30/03 | 11,978
Ofor | Chukwu | E | Houston | TX | OPT | 8/12/16 | 45,412
Olajide | Gbolahan | A | Corona | CA | CHM | 5/19/09 | 338,940
Olberg | Gregory | S | Hayward | CA | CHM | 3/1/99 | 116,682
Owens | James | R | Evans | GA | CHM | 1/21/98 | 15,541
Owens | Gregory | A | Claremore | OK | CHM | 1/21/98 | 55,144
Pacheco | Carlos | A | Mcallen | TX | MED | 9/24/14 | 32,647
Padilla-Torres | Carlos |  | Ponce | PR | OPT | 5/31/18 | 22,940
Palmer | Becky | A | Fallbrook | CA | CHM | 1/21/98 | 192,964
Palmer | Richard | M | Thousand Oaks | CA | CHM | 3/1/99 | 256,033
Palmer-Mitchell | Donna | C | Phoenix | AZ | POD | 1/21/98 | 135,843
Pankey | John |  | Oakland | CA | CHM | 8/5/04 | 148,127
Parkin | Dianne | E | Houston | TX | MED | 9/24/14 | 20,989
Parsa-Forspte | Sepideh |  | San Clemente | CA | CHM | 11/18/11 | 48,648
Patterson JR | Arthur | E | Holmdel | NJ | CHM | 9/24/14 | 60,468
Paunovic | Susan | J | Hopewell Jct | NY | DEN | 11/2/00 | 14,103
Peerenboom-Grenier | Paula | J | Viroqua | WI | CHM | 11/7/01 | 47,370
Pehush | Marie | L | Florida | NY | CHM | 3/25/19 | 100,208
Pellegrini | John | H | Huntington | WV | OST | 3/25/19 | 178,961
Pennington | Bradley | R | Denver | CO | CHM | 5/31/18 | 33,747
Perez | Daysi | E | New York | NY | CHM | 4/24/98 | 156,221
Perlmutter | Mark | A | Ann Arbor | MI | CHM | 2/23/10 | 76,799
Perrault | Mark | D | Culver City | CA | MED | 5/19/09 | 140,235
Perry | John | E | Houston | TX | MED | 9/24/14 | 57,411
Petrosky | Michael | J | Mandeville | LA | CHM | 4/24/98 | 292,972
Pham | Vinh | H | Fountain Valley | CA | DEN | 5/17/01 | 258,399
Pham | Nghi | D | Fountain Valley | CA | CHM | 1/21/98 | 118,023
Philipson | David |  | Huntington Beach | CA | CHM | 11/12/99 | 185,333
Pierson | Steven | R | Minneapolis | MN | CHM | 8/17/07 | 99,204
Pigott | Abu | G | Alameda | CA | CHM | 11/12/13 | 82,657
Pinson | Jeffrey | R | El Paso | TX | CHM | 11/12/99 | 116,315
Podry | Robert | J | Simi Valley | CA | CHM | 1/21/98 | 140,527
Ponder III | Alvin | F | Brooklyn | NY | MED | 1/21/98 | 215,298
Porter | Jacqueline | R | Washington | DC | POD | 1/21/98 | 161,017
Potok | Leonard | A | Brooklyn | NY | DEN | 3/1/99 | 102,384
Potts | David | A | Pasadena | TX | CHM | 9/24/14 | 30,383
Powell | Carlton | F | Elkins Park | PA | DEN | 1/21/98 | 140,930
Powers | Thomas | P | Oklahoma City | OK | CHM | 2/15/02 | 6,784
Pratt | Kerrie | G | Los Angeles | CA | CHM | 7/6/12 | 58,278
Price | Steven | V | Los Angeles | CA | DEN | 1/21/98 | 3,899
Pritchard | Doyle | P | El Centro | CA | CHM | 11/7/01 | 32,515
Prom | Van | S | Modesto | CA | CHM | 8/22/17 | 71,508
Pulli | Louise | A | Perkiomenville | PA | CHM | 8/22/17 | 6,664
Puryear | Cheryll | D | Houston | TX | CHM | 2/17/00 | 200,836
Pust | Keith | W | Lake Elsinore | CA | CPY | 1/21/98 | 123,751
Quirke | Clement |  | Venice | FL | POD | 2/8/17 | 220,033
Radetic | Peter | M | Bay Point | CA | CHM | 11/17/09 | 141,470
Radtke | Joseph | D | Pueblo | CO | OST | 9/24/14 | 76,418
Ramirez | Richard | R | Houston | TX | CHM | 2/28/05 | 36,186
Ramu | Nalaya |  | Beaumont | CA | DEN | 5/14/02 | 99,408
Rappa | Richard | J | North Haven | CT | CHM | 5/11/05 | 69,035
Rashti | Kouros |  | Encino | CA | DEN | 5/14/02 | 302,245
Ratliff | Cynthia |  | Santa Cruz | CA | CHM | 2/1/06 | 296,793
Ravinski | Deborah | G | Plymouth | MA | CHM | 8/12/16 | 6,667
Rayas-Felix | Magdalena |  | Los Angeles | CA | CHM | 1/21/98 | 71,842
Reddick | David | J | Miami | FL | MED | 11/14/07 | 157,939
Reese-Thurmond | Elaine | M | Chicago | IL | MED | 1/21/98 | 164,482
Renz | Howard | W | Astoria | NY | CHM | 1/21/98 | 93,180
Rey | Jorge | E | Chino | CA | CHM | 2/1/01 | 35,243
Reyes | Danniell | J | Bethlehem | PA | CHM | 7/6/12 | 145,602
Rhine | Cecil | T | Lawrenceville | GA | CHM | 1/21/98 | 100,191
Ribera | Alfred | R | Miami | FL | CHM | 3/1/99 | 242,115
Rice | William | M | Malden | MA | CHM | 8/5/99 | 183,350
Richardson | Justin | W | Porter Ranch | CA | CHM | 1/21/98 | 1,298
Richardson | Joseph | M | Silver Spring | MD | DEN | 1/21/98 | 769,248
Richardson | Katherine | J | Oakland | CA | CPY | 7/6/12 | 435,146
Richichi | Mark | S | Center Moriches | NY | CHM | 2/15/02 | 177,564
Ritto | Sharlene | M | Corona | CA | POD | 11/12/13 | 255,546
Robinson | Glenn | R | Dallas | TX | CHM | 3/3/15 | 123,972
Robinson | Bruce | K | Jupiter | FL | CHM | 1/21/98 | 410,027
Rogers | Thomas | C | Santa Ana | CA | CHM | 3/1/99 | 227,277
Romero | Gloriana | M | Guaynabo | PR | MED | 2/8/17 | 131,931
Rosenfeld | Jeffre | B | Los Angeles | CA | CHM | 1/21/98 | 122,380
Roshy | Gary | L | Ludington | MI | CHM | 1/21/98 | 489,287
Ross | Roger | A | Coraopolis | PA | CHM | 1/21/98 | 49,245
Rostami | Helena |  | Calabasas | CA | CHM | 5/16/11 | 32,034
Rothman | Laura | L | Arroyo Grande | CA | CHM | 11/7/01 | 10,586
Rubinstein | David | M | Fort Lauderdale | FL | CHM | 2/15/02 | 68,089
Rushing | Gary | W | Matawan | NJ | CHM | 2/15/02 | 161,622
Russell | Rosalind | L | Houston | TX | DEN | 3/11/15 | 1,713
Russell | Robert | J | Hollywood | FL | CHM | 1/21/98 | 10,463
Ryan | Kathleen |  | West Springfield | MA | POD | 5/19/09 | 125,500
Saadia | Sammy |  | Brooklyn | NY | DEN | 7/30/13 | 182,437
Sainez | Juana | A | Maryland | NY | MED | 2/2/18 | 90,400
Sainten | Adrienne | C | San Leandro | CA | CHM | 8/26/09 | 18,670
Saldana-Quinonez | Salvador | S | La Puente | CA | CHM | 7/6/12 | 39,127
Sambor | David | H | Lockport | NY | DEN | 11/12/99 | 12,774
Santa Cruz | Matthew | E | Tampa | FL | CHM | 5/19/09 | 45,344
Sargent | John | F | Lawndale | CA | CHM | 1/21/98 | 221,092
Sastre | Armando | A | Cortez | CO | DEN | 11/9/10 | 109,464
Saunders | Ronald | W | San Antonio | TX | CHM | 3/25/19 | 33,496
Savage | Robert | L | Harrisburg | PA | DEN | 5/31/18 | 124,581
Schalk | Ronald | R | Corpus Christi | TX | CHM | 5/14/16 | 68,123
Schiff | Barbara | S | Woodland Hills | CA | CHM | 2/17/00 | 128,805
Schow | Kenneth | M | Glendale | CA | CHM | 1/21/98 | 163,163
Schroder | Anthony | M | Middletown | NY | DEN | 1/21/98 | 88,990
Schulten | Eric | A | Sarasota | FL | MED | 11/2/00 | 212,199
Schwartz | Eric | G | Atlantic Beach | NY | DEN | 1/21/98 | 248,039
Scruggs | Virginia | M | Seneca | SC | OST | 11/26/12 | 72,611
Scully | Stephen | M | Redondo Beach | CA | CHM | 3/1/99 | 52,112
Sek | Amaramony | B | Houston | TX | CHM | 8/12/16 | 23,634
Selko | Robert | L | Morro Bay | CA | CHM | 3/1/99 | 174,610
Sellitto | Rocco | V | Brooklyn | NY | POD | 8/1/00 | 262,158
Senatore | Salvatore |  | Kenilworth | NJ | CHM | 11/9/10 | 148,983
Sepahbody | Cyrus | J | Asbury Park | NJ | DEN | 5/21/19 | 67,887
Serratos | Ernesto |  | Crestline | CA | CHM | 1/21/98 | 132,286
Shahrestani | Shahriar |  | Anaheim | CA | CHM | 3/1/99 | 56,365
Shanefelter III | Charles | D | San Francisco | CA | CHM | 1/21/98 | 49,237
Shapiro | Michael | S | Newhall | CA | CHM | 1/21/98 | 125,711
Shapley | Kevin | N | Concord | CA | CHM | 3/2/04 | 45,088
Shaw | Michael | G | Inglewood | CA | MED | 1/21/98 | 112,610
Shaw | Linda | J | Gladwyne | PA | DEN | 1/21/98 | 31,395
Shear | David | S | Staten Island | NY | CHM | 1/21/98 | 213,769
Sheehan | Alex | J | West Palm Beach | FL | CHM | 9/24/14 | 46,223
Sheehy | Daniel | J | Middletown | CA | CHM | 2/28/05 | 66,433
Shin | Hui-Yong |  | Los Angeles | CA | DEN | 1/21/98 | 100,280
Shoeleh | Hossien | M | Irvine | CA | DEN | 1/21/98 | 239,988
Siguenza | Francisco | A | Maspeth | NY | OST | 8/12/16 | 156,983
Simon | Greg | L | Murrieta | CA | CHM | 1/21/98 | 225,192
Simpson | Ashley | L | Allston | MA | MED | 2/10/11 | 321,598
Slusher-Maroudas | Patricia | L | Gilroy | CA | CHM | 11/12/13 | 11,354
Smith | Michael | P | Encinitas | CA | MED | 5/21/19 | 74,236
Smith | Stacey | D | Malibu | CA | CHM | 8/1/00 | 167,426
Smith | Michael | D | Bethel Park | PA | DEN | 8/5/04 | 397,446
Smith | Jessica |  | Downey | CA | CHM | 1/21/98 | 165,985
Smith | George |  | Philadelphia | PA | MED | 1/19/17 | 589,826
Smith | Gary | D | Groton | CT | CHM | 1/21/98 | 51,198
Smith | Rusty | A | Santa Barbara | CA | CHM | 3/1/99 | 9,930
Smith | Lee | A | Sterling | VA | CHM | 5/31/18 | 54,134
Smukler | Evie | L | Los Angeles | CA | CPY | 1/21/98 | 38,392
Snavely | Danny | H | San Juan Capistrano | CA | CHM | 8/21/15 | 314,117
Snyder | Mark | S | Roslyn | NY | CHM | 12/11/18 | 17,021
Sokol | Louis | J | Stuart | FL | CHM | 11/12/99 | 67,134
Sosa | Richard |  | Colton | CA | CHM | 3/1/99 | 94,810
Soto | Vera | A | Fort Lauderdale | FL | OPT | 5/7/08 | 22,032
Sparks | Stacey | L | Houston | TX | CHM | 11/26/12 | 78,752
Spears | Timothy | P | Arlington | TX | CHM | 3/25/19 | 45,231
Spencer | Keivon | J | Cedar Hill | TX | OPT | 8/5/04 | 2,382
Spicer | Mary | C | Essex Junction | VT | CHM | 7/26/18 | 15,959
St Juste | Dominique |  | Brooklyn | NY | DEN | 8/1/00 | 114,144
Staley | Judith | M | Annapolis | MD | CPY | 4/25/14 | 110,221
Stalker | James | W | Castro Valley | CA | CHM | 2/10/11 | 15,327
Stanbridge | Gary | R | Whittier | CA | CHM | 2/28/05 | 46,705
Steder | Sandra |  | San Rafael | CA | CPY | 8/5/04 | 80,956
Steiner | Jean Marie |  | Sunnyvale | CA | CHM | 5/15/00 | 21,659
Steinfeld | Audrey | G | Tarzana | CA | CHM | 2/17/00 | 257,508
Stephens | Charles | N | Milledgeville | GA | CHM | 5/19/09 | 57,784
Stevenson | Teresa | M | Los Angeles | CA | CPY | 1/21/98 | 148,410
Stoltz | William | D | Grants Pass | OR | CHM | 5/19/09 | 316,887
Stone | Steven | D | San Leandro | CA | CHM | 1/21/98 | 61,827
Street | James | F | Gainesville | GA | CHM | 11/12/13 | 84,530
Stricklan | David | K | Haverton | PA | MED | 7/26/18 | 203,637
Strus | Deborah | A | San Antonio | TX | MED | 11/12/13 | 125,821
Sullivan | Joseph | C | Burbank | CA | CHM | 1/21/98 | 128,455
Sullivan | Daniel | B | Fruita | CO | DEN | 5/31/18 | 5,093
Sullivan | John | K | Eugene | OR | DEN | 8/15/19 | 50,996
Sullivan | John | M | Corpus Christi | TX | CHM | 8/22/17 | 121,295
Taylor | Scott | M | Thousand Oaks | CA | DEN | 7/6/12 | 178,935
Tchakalian | Leon | J | Van Nuys | CA | CHM | 11/7/01 | 19,837
Teague | Jenette |  | Los Angeles | CA | DEN | 11/7/01 | 149,659
Tennant | Michael | D | Wheat Ridge | CO | CHM | 11/12/99 | 96,611
Thomas | Randy | L | Fairbanks | AK | DEN | 4/24/98 | 231,878
Thomas | Gordon | A | Atlanta | GA | CHM | 1/21/98 | 223,074
Thomas Sr | Robert | B | Stone Mountain | GA | DEN | 1/21/98 | 463,533
Thompson | Emma | R | Grenada West Indies | FC | MED | 2/15/02 | 87,716
Tierney | Richard | W | Atlanta | GA | POD | 8/5/99 | 419,324
Tolbert JR | William |  | Los Angeles | CA | MED | 11/12/13 | 76,481
Tomlin-Knight | Teresa | L | Manahawkin | NJ | POD | 2/11/08 | 80,718
Toporovsky | Nathan | A | White Plains | NY | DEN | 2/8/17 | 22,537
Townsend | Thomas | E | Fortmill | SC | CHM | 4/24/98 | 9,023
Tramontana | Raul | E | Cincinnati | OH | OPT | 5/14/02 | 226,768
Tran | Ngoc | H | Simi Valley | CA | CHM | 3/1/99 | 108,064
Tran | Huong | N | Carpinteria | CA | CHM | 8/12/16 | 63,209
Tran | Thuan | K | Henderson | NV | DEN | 8/12/16 | 102,707
Trumbo | Traig | T | Sunland | CA | CHM | 3/1/99 | 92,634
Tschabrun | Kevin | L | Holdrege | NE | DEN | 3/1/99 | 125,706
Tumas | Mary | D | Brielle | NJ | CHM | 3/11/15 | 92,189
Turner | Nancy | A | San Francisco | CA | CHM | 1/21/98 | 24,967
Ussery | Marvin |  | Los Angeles | CA | DEN | 8/12/16 | 56,282
Vacula | Nicole | A | Tonawanda | NY | CPY | 8/12/16 | 62,035
Vafaee | Mohammadali |  | Santa Monica | CA | CHM | 2/28/05 | 24,698
Vaishvila | Gail | A | Santa Monica | CA | CHM | 8/1/00 | 232,642
Valicenti | Patrick | J | Wallkill | NY | DEN | 8/5/04 | 138,395
Vanrensselaer | Jeffrey | A | Lake Forest | CA | CHM | 4/24/98 | 100,190
Vardanian | Michael | A | Fullerton | CA | CHM | 1/21/98 | 115,601
Vazquez | Carlos | R | Port Orange | FL | MED | 8/15/19 | 89,262
Vega | Javier | J | Rancho Cucamonga | CA | CHM | 8/12/16 | 51,938
Vernon | Earl | M | Davenport | IA | CHM | 1/21/98 | 3,433
Vessels | Steven | L | Redlands | CA | CHM | 1/21/98 | 207,725
Vessey | Ned |  | Arcadia | CA | CHM | 8/1/00 | 67,656
Villaverde | John | J | Vestavia | AL | MED | 8/22/17 | 72,342
Villegas | Isreal |  | Goddard | KS | CHM | 3/25/19 | 44,459
Villeta | Javier | G | Kissimmee | FL | MED | 3/1/99 | 331,701
Viloria-Else | Jenifer | A | North Hollywood | CA | CHM | 1/21/98 | 185,256
Voboril JR | William | R | Carlisle | IA | POD | 8/5/99 | 31,290
Vosburgh | Stephen | E | Lutz | FL | CHM | 1/21/98 | 162,849
Wada | Isao | N | Oakland | CA | CHM | 7/6/12 | 25,286
Wade | Michael | J | La Quinta | CA | OST | 5/19/09 | 298,317
Wahdan | Buthayna | W | Jordan | FC | DEN | 3/1/99 | 165,832
Wainwright | Mark |  | Oakland | CA | DEN | 7/6/12 | 31,671
Walcher | Kevin | R | Booker | TX | CHM | 5/14/02 | 106,482
Walker | Joel | W | Annapolis | MD | MED | 8/12/16 | 56,948
Wall | Michael | J | Sandy | UT | MED | 3/3/15 | 140,069
Wallace | Owen |  | Tonkawa | OK | CHM | 1/21/98 | 52,891
Walsh | Richard | J | Ventura | CA | CHM | 1/21/98 | 41,200
Walton | Teri | R | Pasadena | CA | CPY | 8/5/99 | 188,415
Ward | Fairfield | A | Hampton | VA | DEN | 8/12/16 | 36,877
Warner | Arthur |  | San Ramon | CA | DEN | 5/20/04 | 129,714
Warner | Rick | A | Aurora | CO | CHM | 11/7/01 | 111,325
Washington | George | L | Baldwyn | MS | DEN | 5/7/13 | 573,633
Washington | Patricia | A | Coto De Caza | CA | MED | 2/2/18 | 60,052
Washington | Arthur | C | Houston | TX | MED | 9/24/14 | 23,888
Washington-Houzell | Patricia | L | Lakewood | CA | POD | 8/10/01 | 548,842
Weatherly | Darrel | F | Jacksonville | FL | OST | 5/16/11 | 585,386
Weil | Mitchell | A | San Clemente | CA | MED | 1/21/98 | 66,137
Weisheit-Dasylva | Lyn | D | Marietta | GA | CHM | 3/1/99 | 61,817
Welch | Ronald | B | Sandpoint | ID | CHM | 3/1/99 | 100,976
Westing | Denise | D | Alameda | CA | CHM | 1/21/98 | 120,743
Whedbee | Joseph | I | Redlands | CA | DEN | 5/14/02 | 144,410
Whigham | Gwendolyn | E | Houston | TX | CHM | 3/1/99 | 67,237
Whipkey | Douglas | G | Jensen Beach | FL | CHM | 1/21/98 | 135,230
Whitaker | Aaron | T | Washington | DC | DEN | 5/19/09 | 206,845
White | Judith | U | Huntington Beach | CA | CHM | 1/21/98 | 38,119
Whittlesey | James | B | Novato | CA | CHM | 1/21/98 | 58,105
Williams | Johnnie |  | Hayward | CA | MED | 3/25/19 | 487,470
Williams | David | L | Pasadena | CA | POD | 1/21/98 | 93,638
Williams | Duane | A | Livermore | CA | CHM | 1/21/98 | 127,113
Williams | Simeon | J | Washington | DC | MED | 3/1/99 | 112,042
Williams | Brett | S | Los Angeles | CA | MED | 5/14/16 | 185,088
Williams | Pamela | A | Buena Park | CA | PUB | 1/21/98 | 39,377
Winston | Gregg | O | Pompano Beach | FL | CHM | 3/1/99 | 202,733
Wong | Matt | S | Mountain View | CA | CHM | 11/9/10 | 48,977
Wong | Wan Sing | V | South San Francisco | CA | POD | 10/30/03 | 204,120
Wright-Benford | Sheila | A | Southfield | MI | POD | 2/8/17 | 62,365
Yeates | Terrance | C | Brooklyn | NY | DEN | 1/21/98 | 221,576
Yniguez | Alma | B | Newark | CA | CHM | 2/20/07 | 275,332
Yoste | Joseph |  | Brownsville | TX | DEN | 8/12/16 | 102,303
Yurick | Richard |  | Bay St Louis | MS | CHM | 11/12/13 | 62,845
Yurkovich | Mark | R | Bentleyville | PA | CPY | 8/12/16 | 59,340
Zaun | Timothy | M | Lakewood | OH | DEN | 1/21/98 | 195,317
Zeitsoff-Mahar | Deborah | L | Aptos | CA | CHM | 1/21/98 | 134,815
Zucker | Ronald | G | Long Beach | NY | CHM | 4/24/98 | 217,928
Totals: | 693 |  |  |  |  |  | $98,130,100

[FR Doc. 2019-19887 Filed 9-12-19; 8:45 am]

BILLING CODE 4000-01-P